MORRIS K. UDALL SCHOLARSHIP AND EXCELLENCE IN NATIONAL ENVIRONMENTAL POLICY FOUNDATION

Notice of Public Meeting

AGENCY: U.S. Institute for Environmental Conflict Resolution, Morris K. Udall Foundation.

ACTION: Notice of meeting.

Authority: 5 U.S.C. Appendix; 20 U.S.C. 5601-5609

SUMMARY: The Council on Environmental Quality (CEQ), the U.S. Institute for Environmental Conflict Resolution of the Morris K. Udall Foundation (U.S. Institute) and Governor David Freudenthal of Wyoming are hosting a public meeting on June 22, 2004. The meeting will focus on making the National Environmental Policy Act (NEPA) work better for the public by more effectively involving interested communities and individuals. Representatives from CEQ and the U.S. Institute will briefly discuss the latest NEPA initiatives from their agencies, including CEQ's NEPA Task Force and the U.S. Institute's National Environmental Conflict Resolution Advisory Committee. Representatives of various public and private organizations will discuss their experiences with involvement in the NEPA process, followed by opportunities for public discussion.

DATES: The meeting will be held on June 22, 2004, from 8:30 a.m. to 4 p.m. Public discussion is scheduled for 11:30 a.m. to 12:15 p.m. and 2:15 p.m.-3 p.m. A lunch break is scheduled from 12:15 p.m.-1:30 p.m.

ADDRESSES: The meeting will take place at the Holiday Inn, 1701 Sheridan Avenue, Cody, Wyoming.

Additional Information: Interested persons may wish to review information about CEQ's NEPA Task Force at the CEQ Web site at http://www.whitehouse.gov/ceq/ or the NEPA Task Force Web site at http://ceq.eh.doe.gov/ntf and information about the U.S. Institute and the associated National Environmental Conflict Resolution Advisory Committee at http://www.ecr.gov. For further information, contact: Dinah Bear, CEQ, (202) 395-7421; Kirk Emerson, U.S. Institute (520) 670-5299, or Mary Flanderka, Governor's Planning Office, at (307) 777-7575.

Dated: June 8, 2004.
Christopher L. Helms,
Executive Director, Morris K. Udall Scholarship and Excellence in National Environmental Policy Foundation, and Federal Register Liaison Officer.

[FR Doc. 04-13397 Filed 6-14-04; 8:45 am]

BILLING CODE 6820-FN-P